ENVIRONMENTAL PROTECTION AGENCY

[OPP-42079A; FRL-6821-3]

West Virginia State Plan for Certification of Applicators of Restricted Use Pesticides; Notice of Approval

AGENCY: Environmental Protection Agency (EPA).

ACTION: Final notice.

SUMMARY: In the Federal Register of September 17, 2001 (66 FR 48057) (FRL-6777-1), EPA issued a notice of intent to approve an amended West Virginia Plan for the certification of applicators of restricted use pesticides. In the notice EPA solicited comments from the public on the proposed action to approve the amended West Virginia Plan. The amended Certification Plan contained several statutory and programmatic changes. The approved amendments establish: New requirements for the certification and recertification of pesticide applicators; for the issuance of pesticide business licences; categories for private applicators; additional competency standards and time intervals between re-examination attempts for initial certification; training requirements for registration of non-certified employees; commercial categories and subcategories, and civil penalties private applicators. The plan also contains a speciality subcategory for predator control. Persons certified in this subcategory will not only be required to demonstrate a practical knowledge of predator control, but also must demonstrate a knowledge of the specific label requirements and use restrictions of the 1080 Livestock Protection Collar and M-44 Device. No comments were received and EPA hereby approves the amended West Virginia Plan.

ADDRESSES: The amended West Virginia Certification Plan can be reviewed at the locations listed under Unit I.B. of the SUPPLEMENTARY INFORMATION.

FOR FURTHER INFORMATION CONTACT: Magda Rodriguez-Hunt, Pesticides/Asbestos Programs and Enforcement Branch, Waste and Chemicals Management Division (3WC32), Environmental Protection Agency, Region III, 1650 Arch Street, Philadelphia, PA 19103-2099; telephone number: (215) 814-2128; fax number: (215) 814-3113; e-mail address: rodriguez-hunt.magda@epa.gov.

SUPPLEMENTARY INFORMATION:

I. General Information

A. Does this Action Apply to Me?

This action is directed to the public in general. This action may, however, be of interest to those involved in agriculture and anyone involved with the distribution and application of pesticides for agricultural purposes. Others involved with pesticides in a non-agricultural setting may also be affected. In addition, it may be of interest to others, such as, those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of the Amended State Plan, Other Related Documents, and Additional Information?

To obtain copies of the amended West Virginia Certification Plan, other related documents, or additional information contact:

1. Magda Rodriguez-Hunt at the address listed under FOR FURTHER INFORMATION CONTACT.

2. Robert Frame, Pesticide Regulatory Programs, West Virginia Department of Agriculture, 1900 Kanawha Boulevard, East, Charleston, WV 25305-0190; telephone number: (304) 558-2209; e-mail address: rframe@ag.state.wv.us.

3. Jeanne Heying, Field and External Affairs Division (7506C), Office of Pesticide Programs, Environmental Protection Agency, 1200 Pennsylvania Ave., NW.; telephone number: (703) 308-3240; e-mail address: heying.jeanne@epa.gov.

II. What Action is the Agency Taking?

EPA is approving the amended West Virginia Certification Plan. This approval is based upon the EPA review of the West Virginia Plan and finding it in compliance with FIFRA and 40 CFR part 171. Further, there were no public comments submitted to the earlier Federal Register Notice soliciting comments. The amended West Virginia Certification Plan is therefore, approved.

List of Subjects

Environmental protection.

Dated: June 27, 2002.
Thomas C. Voltaggio,
Acting Regional Administrator, Region III.

[FR Doc. 02-17878 Filed 7-16-02; 8:45 am]

BILLING CODE 6560-50-S